ENVIRONMENTAL PROTECTION AGENCY

[FRL -7521-5]

Science Advisory Board; Advisory Council on Clean Air Compliance Analysis; Notification of Upcoming Public Teleconferences

AGENCY: Environmental Protection Agency (EPA).

ACTION: Notice.

SUMMARY: The EPA Advisory Council on Clean Air Compliance Analysis (Council) is announcing two public teleconferences by its Special Council Panel for the Review of the Third 812 Analysis and its subcommittee, the Air Quality Modeling Subcommittee (AQMS).

DATES: July 11, 2003. A public teleconference call meeting for the AQMS will be held from 11 a.m. to 12:30 p.m. (Eastern Time).

July 11, 2003: A public teleconference call meeting for the Special Council Panel will be held from 12:30 p.m. to 2:30 p.m. (Eastern Time).

July 15, 2003: A public teleconference call meeting for the Special Council Panel will be held from 12 p.m. to 2 p.m. (Eastern Time).

ADDRESSES: Participation in all teleconferences will be by teleconference only. The meeting location for the September 23-24, 2003 meeting for the Special Council Panel will be held in Washington, DC. The meeting location will be announced on the SAB Web site, http://www.epa/sab two weeks before the meeting.

FOR FURTHER INFORMATION CONTACT: Members of the public who wish to obtain the call-in number and access code to participate in any of the teleconference meetings may contact Ms. Sandra Friedman, EPA Science Advisory Board Staff, at telephone/voice mail: (202) 564-2526, via e-mail at: friedman.sandra@epa.gov. Any member of the public wishing further information regarding the Council, the Special Panel, or the AQMS may contact Dr. Angela Nugent, Designated Federal Officer (DFO), U.S. EPA Science Advisory Board by telephone/voice mail at (202) 564-4562 or via e-mail at nugent.angela@epa.gov. General information about the SAB can be found in the SAB Web site at http://www.epa.gov/sab.

SUPPLEMENTARY INFORMATION:

Background

Pursuant to the Federal Advisory Committee Act, Public Law 92-463, Notice is given that the Advisory Council on Clean Air Compliance Analysis (Council) Special Council Panel for the Review of the Third 812 Analysis will hold two public teleconferences, as described above, on the Agency's plan to develop the second prospective study, the third in a series of statutorily mandated comprehensive analyses of the total costs and benefits of programs implemented pursuant to the Clean Air Act. Notice is also given that the Council's AQMS will hold a public teleconference. Background on the Council, its subcommittees, and on the advisory project was provided in a Federal Register notice published on February 14, 2003 (68 FR 7531-7534).

The Council Special Panel will be providing advice on a revised version of the document, “Benefits and Costs of the Clean Air Act 1990-2020; Revised Analytical Plan for EPA's Second Prospective Analysis' currently found at the following Web site, maintained by EPA's Office of Air and Radiation at: http://www.epa.gov/oar/sect812/. An updated analytical plan and revised charge questions will be available on the Web site cited before the meeting. The AQMS will provide advice on emissions and air quality modeling as described in the Analytical Plan text dated May 12, 2003 and currently posted on the Web site cited immediately above.

Topics for Upcoming Meetings

At its public teleconference on July 11, 2003 the AQMS will discuss advice it developed on the Agency's plans to estimate emissions, a topic discussed by the AQMS at a meeting on June 12, 2003, previously announced in the Federal Register on June 5, 2003 (68 FR 33692).

At its public teleconference on July 11, 2003, the Special Council Panel will discuss the goals of the second prospective study and the scenarios described therein.

At the public teleconference on July 15, 2003, the Special Council Panel will discuss the Agency's plans for estimating direct costs described in the Analytical Plan and receive a report from the AQMS on emissions.

Agendas for the public teleconferences will be made available on the SAB Web site 10 days prior to the meeting.

Procedures for Providing Public Comment

It is the policy of the EPA Science Advisory Board (SAB) to accept written public comments of any length, and to accommodate oral public comments whenever possible. The EPA SAB expects that public statements presented at its meetings will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) at least one week prior to the meeting in order to be placed on the public speaker list for the meeting. Speakers may attend the meeting and provide comment up to the meeting time. Speakers should bring at least 35 copies of their comments and presentation slides for distribution to the participants and public at the meeting. Written Comments: Although the SAB accepts written comments until the date of the meeting (unless otherwise stated), written comments should be received in the SAB Staff Office at least one week prior to the meeting date so that the comments may be made available to the committee for their consideration. Comments should be supplied to the appropriate DFO at the address/contact information noted below in the following formats: one hard copy with original signature, and one electronic copy via e-mail (acceptable file format: Adobe Acrobat, WordPerfect, Word, or Rich Text files (in IBM-PC/Windows 95/98 format). Those providing written comments and who attend the meeting are also asked to bring 35 copies of their comments for public distribution. Should comment be provided at the meeting and not in advance of the meeting, they should be in-hand to the DFO up to and immediately following the meeting.

Meeting Accommodations

Individuals requiring special accommodation to access these meetings, should contact the DFO at least five business days prior to the meeting so that appropriate arrangements can be made.

Dated: June 26, 2003.
Vanessa T. Vu,
Director, EPA Science Advisory Board Staff Office.

[FR Doc. 03-16576 Filed 6-26-03; 2:11 pm]

BILLING CODE 6560-50-P